DEPARTMENT OF AGRICULTURE

Animal and Plant Health Inspection Service

[Docket No. APHIS-2021-0049]

Notice of Availability of Final Environmental Assessment and Finding of No Significant Impact for Release of Lophodiplosis indentata for Biological Control of Melaleuca quinquenervia (Myrtaceae) in the Contiguous United States

AGENCY: Animal and Plant Health Inspection Service, USDA.

ACTION: Notice of availability.

SUMMARY: We are advising the public that we have prepared a final environmental assessment and finding of no significant impact relative to permitting the release of the insect Lophodiplosis indentata for the biological control of Melaleuca quinquenervia (Myrtaceae) in the contiguous United States. Based on our finding of no significant impact, we have determined that an environmental impact statement need not be prepared.

FOR FURTHER INFORMATION CONTACT: Dr. Robert S. Pfannenstiel, Ph.D., Senior Entomologist, Biological Control, Pests, Pathogens and Biocontrol Permitting, Plant Health Programs, PPQ, APHIS, 4700 River Road, Unit 133, Riverdale, MD 20737-1231; (301) 851-2198; email: bob.pfannenstiel@usda.gov.

SUPPLEMENTARY INFORMATION: The Animal and Plant Health Inspection Service (APHIS) is issuing permits for the release of the insect, a fly, Lophodiplosis indentata in the contiguous United States for the biological control of Melaleuca quinquenervia (Myrtaceae), hereinafter referred to as melaleuca.

Melaleuca, a large tree native to Australia, New Caledonia, and Papua New Guinea, was imported into Florida in the late 19th century. It was planted extensively in Palm Beach, Broward, Collier, and Miami-Dade Counties. Unsuccessful treatment campaigns during the 1970s and 1980s culminated in Federal and State listing of melaleuca as a noxious weed. By the 1990s, melaleuca covered more than 200,000 hectares of wetlands in south Florida. It dramatically disrupted normal water cycles, fire cycles, disturbance recovery cycles, nutrient cycling, light availability, and tree canopy.

Permitting the release of the fly, Lophodiplosis indentata, a gall-forming melaleuca specialist that lays eggs on new foliage of the tree, will add to the impact of three previously released biological control agents in reducing severity of melaleuca infestations. When the eggs of L. indentata hatch, the emerging larva bore into leaf tissue, instigating the gall (an abnormal growth) to form around them. These galls distort young foliage and result in reduced sapling height.

On December 16, 2021, we published in the Federal Register (86 FR 71417, Docket No. APHIS-2021-0049) a notice ¹ in which we announced the availability, for public review and comment, of an environmental assessment (EA) that examined the potential environmental impacts associated with the release of L. indentata in the contiguous United States for the biological control of melaleuca. Comments on the notice were required to be received on or before January 18, 2022. We received five comments on the EA by that date, as noted on page 6 of the final EA. Four comments were in favor of the environmental release of L. indentata, and one comment was neither for nor against it and raised no concerns.

¹ To view the notice, supporting documents, and the comments we received, go to http://www.regulations.gov and enter APHIS-2021-0049 in the Search field.

In this document, we are advising the public of our finding of no significant impact (FONSI) regarding the field release of the fly, L. indentata, for biological control of melaleuca in the contiguous United States. Our finding, which is based on the EA, reflects our determination that release of L. indentata for the biological control of melaleuca in the contiguous United States will not have a significant impact on the quality of the human environment. Based on this finding, we have issued a permit for the release of L. indentata for the biological control of melaleuca in the contiguous United States.

The final EA and FONSI may be viewed on the Regulations.gov website (see footnote 1). Copies of the final EA and FONSI are also available for public inspection in room 1620 of the USDA South Building, 14th Street and Independence Avenue SW, Washington, DC. Normal reading room hours are 8 a.m. to 4:30 p.m., Monday through Friday, except holidays. Persons wishing to inspect copies are requested to call ahead on (202) 799-7039 to facilitate entry into the reading room. In addition, copies may be obtained by calling or writing to the individual listed under FOR FURTHER INFORMATION CONTACT.

The final EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 29th day of July 2024.
Michael Watson,
Administrator, Animal and Plant Health Inspection Service.

[FR Doc. 2024-17674 Filed 8-8-24; 8:45 am]

BILLING CODE 3410-34-P